ENVIRONMENTAL PROTECTION AGENCY

40 CFR Parts 52 and 81

[EPA-R05-OAR-2023-0498; FRL-12265-02-R5]

Air Plan Approval; Illinois; Alton Township 2010 Sulfur Dioxide Redesignation and Maintenance Plan

AGENCY: Environmental Protection Agency (EPA).

ACTION: Final rule.

SUMMARY: The Environmental Protection Agency (EPA) is approving Illinois' request to redesignate the Alton Township nonattainment area in Madison County, Illinois to attainment for the 2010 sulfur dioxide (SO2) National Ambient Air Quality Standard (NAAQS). EPA is also approving Illinois' maintenance plan for the area. Illinois submitted the request for approval on October 2, 2023. Additionally, EPA is taking final action to determine that the Alton Township area attained the 2010 SO2 NAAQS by the September 12, 2021, attainment date, fulfilling EPA's obligation under the Clean Air Act (CAA) section 179(c) to determine whether the area attained the relevant NAAQS standard. EPA proposed to approve this action on October 8, 2024, and received no comments.December 30, 2024

DATES: This final rule is effective on January 29, 2025.

ADDRESSES: EPA has established a docket for this action under Docket ID No. EPA-R05-OAR-2023-0498. All documents in the docket are listed on the https://www.regulations.gov website. Although listed in the index, some information is not publicly available, i.e., Confidential Business Information (CBI), Proprietary Business Information (PBI), or other information whose disclosure is restricted by statute. Certain other material, such as copyrighted material, is not placed on the internet and will be publicly available only in hard copy form. Publicly available docket materials are available either through https://www.regulations.gov or at the Environmental Protection Agency, Region 5, Air and Radiation Division, 77 West Jackson Boulevard, Chicago, Illinois 60604. This facility is open from 8:30 a.m. to 4:30 p.m., Monday through Friday, excluding Federal holidays. We recommend that you telephone Cecilia Magos, at (312) 886-7336, before visiting the Region 5 office.

FOR FURTHER INFORMATION CONTACT: Cecilia Magos, Air and Radiation Division (AR-18J), Environmental Protection Agency, Region 5, 77 West Jackson Boulevard, Chicago, Illinois 60604, (312) 886-7336, magos.cecilia@epa.gov.

SUPPLEMENTARY INFORMATION: Throughout this document whenever “we,” “us,” or “our” is used, we mean EPA.

I. Background Information

On June 22, 2010 (75 FR 35520), EPA revised the primary SO2 NAAQS, establishing a new health-based 1-hour standard of 75 parts per billion (ppb). EPA promulgated designations for this standard in four rounds. On September 18, 2015, Illinois submitted its recommendations to EPA to designate certain areas of the state as part of the Round 2 designations. Illinois recommended a portion of southern Alton Township in Madison County be designated as nonattainment for the 2010 SO2 NAAQS. EPA concurred with Illinois' analysis and published a final action designating the area as nonattainment for the 2010 SO2 NAAQS effective September 12, 2016 (81 FR 45039).

Illinois submitted an attainment plan for the Alton Township nonattainment area on December 3, 2018. The plan included computer modeling that included emissions from the Alton Steel Inc. (Alton Steel) facility in Alton, Illinois, and emissions from the Ameren Missouri-Sioux Energy Center (Ameren-Sioux) power plant in Missouri, located about 13 kilometers west-northwest of the nonattainment area. On March 14, 2019, the Illinois Environmental Protection Agency issued Construction Permit #18020009 for the Alton Steel facility to operate a new ladle metallurgy facility (LMF) stack and to remove the downfacing vents that were contributing to modeled nonattainment at the facility. EPA included additional dispersion modeling to supplement Illinois' attainment demonstration to demonstrate that the emission limits required by the Illinois SIP and submitted for EPA approval provide for modeled concentrations meeting the 2010 SO2 NAAQS. EPA approved Illinois' attainment plan revision on February 21, 2023 (88 FR 10464).

On October 2, 2023, Illinois submitted a redesignation request and maintenance plan for the Alton Township nonattainment area for the 2010 SO2 NAAQS. The submitted redesignation request and maintenance plan includes the Construction Permit issued to Alton Steel and the Consent Agreement for Ameren-Sioux that has been approved into the Missouri SIP (87 FR 68634, November 16, 2022) with accepted SO2 emissions limits. On October 8, 2024 (89 FR 81409), EPA proposed to approve the redesignation of the Alton Township area in Madison County, Illinois from nonattainment to attainment for the 2010 SO2 NAAQS in accordance with Illinois' request submitted on October 2, 2023. EPA has determined the area is attaining the 2010 SO2 NAAQS and that the improvement in air quality is due to permanent and enforceable SO2 emission reductions in the area. EPA is also approving Illinois' maintenance plan, which is designed to ensure that the area will continue to maintain attainment of the 2010 SO2 NAAQS. Additionally, under section 179(c) of the CAA, EPA is required to determine whether a nonattainment area attained a standard by the applicable attainment date based on the area's air quality as of the attainment date. In this action, EPA is determining that the Alton Township area did attain the 2010 SO2 NAAQS by the attainment date of September 12, 2021. An explanation of the CAA requirements, a detailed analysis of the revisions, and EPA's reasons for proposing approval were provided in the notice of proposed rulemaking (NPRM) and will not be restated here. The public comment period for this proposed rule ended on November 7, 2024. EPA received no comments on the proposal. Therefore, we are finalizing our action as proposed.

II. Final Action

EPA is approving the redesignation of the Alton Township area from nonattainment to attainment, meeting the criteria under CAA section 107(d)(3)(E) for the 2010 SO2 NAAQS in accordance with Illinois' October 2, 2023, request. EPA is determining that the area is attaining the 2010 SO2 NAAQS and that the improvement in air quality is due to permanent and enforceable SO2 emission reductions in the area. On this basis, EPA is approving the redesignation request from Illinois for the area and changing the legal designation of the Alton Township area in Madison County at 40 CFR part 81 to attainment for the 2010 SO2 NAAQS.

EPA is also approving Illinois' maintenance plan under CAA section 175A. The maintenance plan demonstrates that the area will continue to maintain the 2010 SO2 NAAQS and includes a process to develop contingency measures to remedy any future violations of the 2010 SO2 NAAQS and procedures for evaluation of potential violations. This includes Illinois' commitment to provide EPA with an annual emissions report of the newly constructed Alton Steel LMF stack as part of Illinois' annual network plan submittal to provide ongoing verification of attainment.

Finally, EPA is determining that the Alton Township area attained the 2010 SO2 NAAQS by the September 12, 2021, attainment date addressing EPA's obligation under CAA section 179(c).

III. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. Executive Order 14096 (Revitalizing Our Nation's Commitment to Environmental Justice for All, 88 FR 25251, April 26, 2023) builds on and supplements E.O. 12898 and defines EJ as, among other things, the just treatment and meaningful involvement of all people, regardless of income, race, color, national origin, or Tribal affiliation, or disability in agency decision-making and other Federal activities that affect human health and the environment.

The Illinois Environmental Protection Agency did not evaluate EJ considerations as part of its SIP submittal; the CAA and applicable implementing regulations neither prohibit nor require such an evaluation. EPA performed an EJ analysis, as is described in the proposed action (October 8, 2024, 89 FR 81409) in the section titled, “EJ Considerations.” The analysis was done for the purpose of providing additional context and information about this rulemaking to the public, not as a basis of the action. Due to the nature of the action being taken here, this action is expected to have a neutral to positive impact on the air quality of the affected area. In addition, there is no information in the record upon which this decision is based inconsistent with the stated goal of E.O. 12898/14096 of achieving EJ for communities with EJ concerns.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by February 28, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Reporting and recordkeeping requirements, Sulfur oxides.

Dated: December 16, 2024.
Debra Shore,
Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. In § 52.720, amend the table in paragraph (e), under the heading “Attainment and Maintenance Plans” by adding a second entry for “Sulfur dioxide (2010) maintenance plan” after the entry for “Sulfur dioxide maintenance plan” to read as follows:

§ 52.720 Identification of plan.

* * * * *

(e) * * *

EPA Approved Illinois Nonregulatory and Quasi-Regulatory Provisions
Name of SIP provision | Applicable geographic or nonattainment area | State submittal date | EPA approval date | Comments
* * * * * * *
Attainment and Maintenance Plans
* * * * * * *
Sulfur dioxide (2010) maintenance plan | Alton Township | 10/2/2023 | 12/30/24, [INSERT FIRST PAGE OF FEDERAL REGISTER CITATION] |
* * * * * * *

* * * * *

PART 81-DESIGNATION OF AREAS FOR AIR QUALITY PLANNING PURPOSES

3. The authority citation for part 81 continues to read as follows:

Authority: 42 U.S.C. 7401, et seq.

4. In § 81.314,amend the table entitled “Illinois—2010 Sulfur Dioxide NAAQS [Primary], by revising the entry for “Alton Township, IL”” to read as follows:

§ 81.314 Illinois.

* * * * *

Illinois—2010 Sulfur Dioxide NAAQS
[Primary]
Designated area ¹ | Designation: Date ² | Designation: Type
Alton Township, IL | 12/30/24 | Attainment.
Madison County (part) Within Alton Township: Area east of Corporal Belchik Memorial Expressway, south of East Broadway, south of Route 3, and north of Route 143
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

[FR Doc. 2024-30506 Filed 12-27-24; 8:45 am]

BILLING CODE 6560-50-P